ENVIRONMENTAL PROTECTION AGENCY

40 CFR Part 52

[EPA-R04-OAR-2013-0223; FRL-9831-5]

Approval and Promulgation of Implementation Plans for Georgia: Partial Withdrawal

AGENCY: Environmental Protection Agency (EPA).

ACTION: Final rule; partial withdrawal.

SUMMARY: Due to comments received, EPA is publishing a partial withdrawal of the direct final approval of revisions to the Georgia State Implementation Plan (SIP). EPA stated in the direct final rule that if EPA received adverse comments by June 17, 2013, the rule would be withdrawn and not take effect.

DATES: The partial withdrawal is effective July 15, 2013.

FOR FURTHER INFORMATION CONTACT: Sara Waterson, Air Planning Branch, U.S. Environmental Protection Agency Region 4, 61 Forsyth Street SW., Atlanta, Georgia 30303-8960. Phone number: (404) 562-9061; Email: waterson.sara@epa.gov.

SUPPLEMENTARY INFORMATION: On May 16, 2013 (78 FR 28744), EPA published a direct final rulemaking to approve portions of Georgia's September 15, 2008, August 30, 2010 (two submittals), and December 11, 2011, SIP submissions that update the Georgia SIP to incorporate EPA's current national ambient air quality standards (NAAQS) for the sulfur dioxide, nitrogen dioxide, ozone, lead, and particulate matter (PM) NAAQS. The SIP submissions contain amendments to Georgia Rules 391-3-1.-02(4)(b), (c), (e), (f), and (g) reflecting EPA's current NAAQS for the aforementioned criteria pollutants. On May 16, 2013, EPA also published an accompanying proposed rulemaking to approve the SIP revisions in the event that EPA received adverse comments on the direct final rulemaking. See 78 FR 28776.

In the direct final rulemaking, EPA explained that the Agency was publishing the rule without prior proposal because the Agency viewed the submittals as non-controversial SIP amendments and anticipated no adverse comments. Further, EPA explained that the Agency was simultaneously publishing a separate document in the proposed rules section of the Federal Register to serve as the proposal to approve the SIP revisions should an adverse comment be filed. EPA also noted that the rule would be effective on July 15, 2013, without further notice unless the Agency received adverse comment by June 17, 2013. EPA explained that if the Agency received such comments, then EPA would publish a document withdrawing the final rule and informing the public that the rule would not take effect. It was also explained that all public comments received would then be addressed in a subsequent final rule based on the proposed rule, and that EPA would not institute a second comment period on these actions. The public was advised that if no comments were received that the rule would be effective on July 15, 2013, with no further action on the proposed rule.

On May 17, 2013, EPA received a comment from a single commenter that could be viewed as adverse with regard to the approval action that EPA contemplated for the PM portion of the Georgia SIP revision. In summary, the commenter noted that Georgia's SIP revision related to the PM2.5 NAAQS that was addressed in EPA's May 16, 2013, rulemaking actions did not reflect EPA's December 2012 revision to this standard. The commenter recommended that EPA conditionally approve Georgia's “particulate matter SIP” on the condition that the State submit a revised SIP within a reasonable amount of time reflecting the December 2012 PM2.5 NAAQS. The commenter expressed support for EPA's approval of the SIP revisions incorporating updates to the other NAAQS subject to the May 16, 2013, rulemakings.

As result of this comment, EPA is withdrawing the direct final action related solely to the PM portion of the Georgia SIP revision. Specifically, through today's action, EPA is withdrawing the May 16, 2013, direct final approval of Georgia's SIP submission to update the PM NAAQS via incorporation of amended Georgia Rule 391-3-1-.02(4)(c) “Particulate Matter” into the SIP.

As indicated in the direct final rulemaking, EPA's May 16, 2013, proposed rulemaking approving Georgia's SIP revision related to the PM NAAQS is still in effect. The Agency is not opening an additional comment period and will only consider the comments received prior to June 17, 2013, the close of the public comment period. If EPA determines that it is appropriate to finalize the proposed approval of the Georgia SIP revision related to the PM NAAQS, EPA will publish a final rule which will include a response to the comment received. In the event that EPA determines that it is not appropriate to finalize the proposed approval related to the PM NAAQS, EPA may issue a subsequent proposal with a different course of action.

Today's withdrawal action does not affect EPA's May 16, 2013, direct final action on Georgia's SIP revisions related to the sulfur dioxide, nitrogen dioxide, ozone, and lead NAAQS. The SIP revisions updating the sulfur dioxide, nitrogen dioxide, ozone, and lead NAAQS are approved and amended Georgia Rules 391-3-1-.02(4)(b), (e), (f), and (g) are incorporated into the SIP as of the effective date of the May 16, 2013, direct final action (July 15, 2013).

List of Subjects in 40 CFR Part 52

Environmental protection, Air pollution control, Incorporation by reference, Intergovernmental relations, Particulate matter, Reporting and recordkeeping requirements.

Dated: June 28, 2013.
Beverly H. Banister,
Acting Regional Administrator, Region 4.

40 CFR part 52 is amended as follows:

PART 52—[AMENDED]

1. The authority citation for part 52 continues to read as follows:

Authority: 42.U.S.C. 7401 et seq.

Subpart L—Georgia

2. Section 52.570 (c) is amended under Table 1, under Emission Standards by revising the entry for “391-3-1-.02(4)” to read as follows:

§ 52.570 Identification of plan

* * * * *

(c) * * *

EPA-Approved Georgia Regulations
State citation | Title/subject | State effective date | EPA approval date | Explanation
* * * * * * *
Emission Standards
* * * * * * *
391-3-1-.02(4) | Ambient Air Standards | 9/13/2011 | 5/16/2013 | Only subparagraphs (b), (e), (f), and (g) were approved.
| * * * * * * *

* * * * *

[FR Doc. 2013-16655 Filed 7-11-13; 8:45 am]

BILLING CODE 6560-50-P